FEDERAL RETIREMENT THRIFT INVESTMENT BOARD

Notice of Board Meeting

DATE: November 20, 2025, at 11:00 a.m. ET.

ADDRESSES: Telephonic. Dial-in (listen only) information: Number: 1-202-599-1426, Code: 699 114 845#; or via web: https://www.frtib.gov/.

FOR FURTHER INFORMATION CONTACT: James Kaplan, Director, Office of External Affairs, (202) 864-7150.

SUPPLEMENTARY INFORMATION:

Board Meeting Agenda

Open Session

1. Approval of the October 28, 2025, Board Meeting Minutes

2. Monthly Reports

(a) Participant Report

(b) Investment Report

(c) Legislative Report

3. Quarterly Reports

(d) Metrics

4. Internal Audit Update

Closed Session

5. Information covered under 5 U.S.C. 552b(c)(6).

Authority: 5 U.S.C. 552b(e)(1).

Dated: November 10, 2025.
Dharmesh Vashee,
General Counsel, Federal Retirement Thrift Investment Board.

[FR Doc. 2025-19879 Filed 11-13-25; 8:45 am]

BILLING CODE;P